DEPARTMENT OF VETERANS AFFAIRS

Privacy Act of 1974; System of Records

AGENCY: Office of Small & Disadvantaged Business Utilization (OSDBU), Department of Veterans Affairs (VA).

ACTION: Notice of a modified system of records.

SUMMARY: VA personnel will access the system to find resources available to veteran entrepreneurs and to register those resources that they provide. They may also utilize the database to counsel and assist veteran entrepreneurs in starting a small business or expanding an existing small business. The Office of Small & Disadvantaged Business Utilization (OSDBU) will use the records and reports derived from the database to manage their responsibilities under the Veterans Entrepreneurship and Small Business Development Act of 1999. Federal, State, and local government personnel will access the system to find resources available to veteran entrepreneurs and to register those resources that they provide. They may also utilize the database to counsel and assist veteran entrepreneurs in starting a small business or expanding an existing small business. The general public, including private sector companies and corporate entities, will access the system, via internet, to review the information, register those resources that they provide, and to locate potential resources for Veteran entrepreneurs.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to VA VetBiz Assistance Program Pages-132VAOSDBU. Comments received will be available at regulations.gov for public viewing, inspection or copies.

FOR FURTHER INFORMATION CONTACT: For general questions about the system contact Carol Cleveland, Office of Small & Disadvantaged Business Utilization at 1-866-584-2344 or osdbu@va.gov.

SUPPLEMENTARY INFORMATION: OSDBU provides numerous services for veterans and service-disabled veterans who seek to open or expand a business. The OSDBU staff coordinates the tasks required of the U.S. Department of Veterans Affairs by several Federal laws, including:

• Public Law 108-183 (December 2003), the Veterans Benefits Act of 2003, Sections 301, 305, 308.

• Public Law 106-554 (December 2000), Sections 803 and 808.

• Public Law 106-50 (August 1999), the Veterans Entrepreneurship and Small Business Development Act of 1999.

• Public Law 105-135 (December 1997), Title VII, Service-Disabled Veterans Program.

• Public Law 93-237 (January 1974), “Special Consideration for Veterans”.

Public Law 106-50, Section 302, Entrepreneurial Assistance, subsection (5) requires VA to support the “establishment of an information clearinghouse to collect and distribute information, including electronic means, on the assistance programs of Federal, state, and local governments, and of the private sector, including information on office locations, key personnel, telephone numbers, mailing and email addresses, and contracting and sub-contracting opportunities.”

The parts of the Veterans Benefits Act of 2003 (Pub. L. 108-183) that pertain to veteran entrepreneurship are contained in Title III—Education Benefits, Employment Provisions, and Related Matters. They are as follows:

○ Section 301—Expand the Montgomery GI Bill program by authorizing educational assistance for on-job training in certain self-employment training programs.

○ Section 305—Authorize the use of VA education benefits to pay for nondegree/non-credit entrepreneurship courses at approved institutions:

• Small Business Development Centers, and

• National Veterans Business Development Corporation (also known as Veterans Corporation).

○ Section 308—Furnish Federal agencies discretionary authority to:

• Restrict certain contracts to disabled veteran-owned small businesses if at least two such concerns are qualified to bid on the contract, and

• Create “sole-source” contracts for disabled veteran-owned small businesses—up to $5 million for manufacturing contract awards and up to $3 million for nonmanufacturing contract awards.

A Web-based application is used to allow Governmental and support sector organizations to “register” their services. This clearinghouse allows any user to search for business support services at the Federal, State, and local government levels and private providers in their respective category of business development, management, financial, technical or procurement assistance.

The site allows support organizations to update their business information as well as give the Department the ability to upload data from other sources to populate the proposed database. Contact information is also kept and a means to extract this information to satisfy the Department's need to send out information is available.

This modified system of records, known as the VA VetBiz Assistance Program Pages (APP)—VA, is used to maintain and access an automated database containing the information on veteran owned businesses resources set forth in the law (section 302, paragraph (5) and section 604, paragraph (b)). Because some information may be retrieved by the name or other personal identifiers of individuals acting in an entrepreneurial capacity, such as a sole proprietor of a small business, VA is using this system of records.

The information in this system is maintained in electronic form. The information in these records are available to government agencies, companies, and the general public via the internet.

The name of this SORN has been changed from 132VA00VE, with “VE” representing Veteran Experience, to 132VAOSDBU, with “OSDBU” representing the Office of Small & Disadvantaged Business Utilization, to reflect the office that is responsible for this SORN.

Signing Authority

The Senior Agency Official for Privacy, or designee, approved this document and authorized the undersigned to sign and submit the document to the Office of the Federal Register for publication electronically as an official document of the Department of Veterans Affairs. James P. Gfrerer, Assistant Secretary of Information and Technology and Chief Information Officer, approved this document on September 14, 2020 for publication.

Dated: January 21, 2021.
Amy L. Rose,
Program Analyst, VA Privacy Service, Office of Information Security, Office of Information and Technology, Department of Veterans Affairs.

SYSTEM NAME AND NUMBER:

VA VetBiz Assistance Program Pages-132VAOSDBU.

SECURITY CLASSIFICATION:

Information in this SORN is not classified information.

SYSTEM LOCATION:

The system is hosted on the Veterans Affairs (VA) Enterprise Cloud (EC), Microsoft Azure Government (MAG). The VAEC MAG is located in Azure Government Region 1 (USGOV VIRGINIA) and 2 (USGOV TEXAS) and is designed to allow U.S. government agencies, contractors and customers to move sensitive workloads into the cloud for addressing specific regulatory and compliance requirements.

SYSTEM MANAGER(S):

Ray Dockery, Director, Information Technology Systems Integration, Department of Veterans Affairs (VA), Office of Small & Disadvantaged Business Utilization (OSDBU), 810 Vermont Ave. NW, Room 1064, Washington, DC 20420. 1-866-584-2344.

AUTHORITY FOR MAINTENANCE OF THE SYSTEM:

Public Law 106-50, as amended.

PURPOSE(S) OF THE SYSTEM:

1. VA personnel will access the system to find resources available to Veteran entrepreneurs and to register those resources that they provide. They may also utilize the database to counsel and assist Veteran entrepreneurs in starting a small business or expanding an existing small business.

2. The Office of Small & Disadvantaged Business Utilization will use the records and reports derived from the database to manage their responsibilities under the Veterans Entrepreneurship and Small Business Development Act of 1999.

CATEGORIES OF INDIVIDUALS COVERED BY THE SYSTEM:

The system of records will cover programs of Federal, State, and local governments, and private sector organizations and companies offering business or business assistance services to Veteran entrepreneurs that wish to be a part of the information clearinghouse.

CATEGORIES OF RECORDS IN THE SYSTEM:

The records will contain data on the assistance programs of Federal, state, and local governments, and of the private sector, including information on office locations, key personnel, telephone numbers, mailing and email addresses, and contracting and subcontracting opportunities available to Veteran entrepreneurs. The data will come from both governments and private sector organizations who have contacted the Center for Veterans Enterprise, registered their products or services online in the database, or have been extracted from e-government databases to which the companies have voluntarily submitted the data. The records may include business addresses and other contact information, information concerning products or services offered, and information pertaining to the business, such as federal contracts, and certifications.

RECORD SOURCE CATEGORIES:

The information in this system of records is obtained from the following sources:

a. Information voluntarily submitted by Federal, State, and local governments;

b. Information voluntarily submitted by the private sector; and

c. Information extracted from other business and resource databases.

ROUTINE USES OF RECORDS MAINTAINED IN THE SYSTEM, INCLUDING CATEGORIES OF USERS AND PURPOSES OF SUCH USES:

1. Congress: VA may disclose information from the record of an individual in response to an inquiry from the congressional office made at the request of that individual.

2. Data breach response and remedial efforts: VA may disclose information from this system to appropriate agencies, entities, and persons when (1) VA suspects or has confirmed that there has been a breach of the system of records; (2) VA has determined that as a result of the suspected or confirmed breach there is a risk of harm to individuals, VA (including its information systems, programs, and operations), and (3) the Federal Government, or national security; and the disclosure made to such agencies, entities, and persons is reasonably necessary to assist in connection with VA's efforts to respond to the suspected or confirmed breach or to prevent, minimize, or remedy such harm.

3. Data breach response and remedial efforts with another Federal agency: VA may disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: VA may, on its own initiative, disclose information in this system, except the names and home addresses of Veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. On its own initiative, VA may also disclose the names and addresses of Veterans and their dependents to a Federal agency charged with the responsibility of investigating or prosecuting civil, criminal or regulatory violations of law, or charged with enforcing or implementing the statute, regulation, rule or order issued pursuant thereto.

5. Litigation: VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

6. Contractors: VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement.

7. Equal Employment Opportunity Commission (EEOC): VA may disclose information from this system to the EEOC when requested in connection with investigations of alleged or possible discriminatory practices, examination of Federal affirmative employment programs, or other functions of the Commission as authorized by law or regulation.

8. Federal Labor Relations Authority (FLRA): VA may disclose information from this system to the FLRA, including its General Counsel, information related to the establishment of jurisdiction, investigation, and resolution of allegations of unfair labor practices, or in connection with the resolution of exceptions to arbitration awards when a question of material fact is raised; for it to address matters properly before the Federal Service Impasses Panel, investigate representation petitions, and conduct or supervise representation elections.

9. Merit Systems Protection Board (MSPB): VA may disclose information from this system to the MSPB, or the Office of the Special Counsel, when requested in connection with appeals, special studies of the civil service and other merit systems, review of rules and regulations, investigation of alleged or possible prohibited personnel practices, and such other functions promulgated in 5 U.S.C. 1205 and 1206, or as authorized by law.

10. National Archives and Records Administration (NARA) and General Services Administration (GSA): VA may disclose information from this system to NARA and GSA in records management inspections conducted under title 44, U.S.C.

11. Federal, State, and local government personnel will access the system to find resources available to Veteran entrepreneurs and to register those resources that they provide. They may also utilize the database to counsel and assist Veteran entrepreneurs in starting a small business or expanding an existing small business.

12. The general public, including private sector companies and corporate entities, will access the system, via internet, to review the information register those resources that they provide, and to locate potential resources for Veteran entrepreneurs.

POLICIES AND PRACTICES FOR STORAGE OF RECORDS:

The VetBiz APP is stored in an automated, computerized database. The system operates on servers located on the VAEC. Data backups reside on appropriate media according to normal system backup plans. The system is managed by the Center for Veterans Enterprise in VA Headquarters, Washington, DC.

POLICIES AND PRACTICES FOR RETRIEVAL OF RECORDS:

Automated records may be retrieved by:

1. Organization Name.

2. Contact Name.

3. Email Address.

4. Web Address.

5. Area Code and Phone Number.

6. Zip Code.

7. County Code (NaCO).

8. State(s).

9. Type of Organization: Government (Federal; State; County; Municipal; Other); Nongovernmental Organization; Commercial.

10. Type of Assistance: (Paperwork packaging; grants/loans; procurement assistance; management/technical assistance; mentoring/incubator; contract opportunities; other).

11. Service Area Limits (if any).

12. Service limited to Veterans.

13. Fees.

14. Organization Funding Limits: (None; term—funding expires on a specific date).

15. Year Established.

16. Full-time/part-time.

17. Days and Hours of Service.

18. Other Professional Staff Available.

POLICIES AND PRACTICES FOR RETENTION AND DISPOSAL OF RECORDS:

Records will be maintained and disposed of in accordance with the records disposal authority approved by the Archivist of the United States, the National Archives and Records Administration, and published in Agency Records Control Schedule No. 20, Electronic Records.

ADMINISTRATIVE, TECHNICAL, AND PHYSICAL SAFEGUARDS:

Read access to the system is via internet access. VA Information Service Center and CVE personnel will have access to the system via VA Intranet and local connections for management and maintenance purposes and tasks.

RECORD ACCESS PROCEDURES:

Individuals seeking access to records about themselves contained in this system of records may access the records via the internet or submit a written request to the system manager.

CONTESTING RECORD PROCEDURES:

An individual who wishes to contest records maintained under his or her name or other personal identifier may write or call the system manager. VA's rules for accessing records and contesting contents and appealing initial agency determinations are published in regulations set forth in the Code of Federal Regulations. See 38 CFR 1.577, 1.578.

NOTIFICATION PROCEDURES:

Individuals wishing to inquire whether this system of records contains information about themselves should contact the Deputy Director, IT Systems Integration (00SB), 810 Vermont Ave. NW, Washington, DC 20420.

EXEMPTIONS PROMULGATED FOR THE SYSTEM:

There are no exemptions for the system.

HISTORY:

VA VetBiz Assistance Program Pages—VA (132VA00VE), published as 69 FR 62936, 10/28/2004, was the last full publication of OSDBU's SORN 132VA00VE which provided updated information regarding OSDBU's records.

[FR Doc. 2021-01647 Filed 2-1-21; 8:45 am]

BILLING CODE P